ENVIRONMENTAL PROTECTION AGENCY

[FRL-7155-1]

EPA Science Advisory Board; Request for Nomination of Members and Consultants

SUMMARY: The U.S. Environmental Protection Agency's Science Advisory Board (SAB), including the Clean Air Scientific Advisory Committee (CASAC) and the Advisory Council on Clean Air Compliance Analysis (Council), of the Environmental Protection Agency (EPA) is soliciting nominations for Members and Consultants (M/Cs). As part of this effort, the Agency is publishing this notice to describe the purpose of the SAB and to invite the public to nominate appropriately qualified candidates of any gender or ethnic background to fill upcoming vacancies. This process supplements other efforts to identify qualified candidates.

Background

The SAB is composed of Non-Federal Government scientists and engineers who are employed on an intermittent basis to provide independent advice to the EPA Administrator on technical aspects of public health and environmental issues confronting the Agency. Members of the SAB are appointed by the Administrator—generally in October—to serve two year-terms with some possibilities for reappointment. Consultants are appointed throughout the year, as the need arises, by the SAB Staff Director to serve renewable one-year terms and serve on SAB committees, as needed, to support the work of the Board. Many individuals serve as Consultants prior to serving as Members.

Members and Consultants (M/Cs) most often serve in association with one of the following standing committees: Advisory Council on Clean Air Compliance Analysis, Clean Air Scientific Advisory Committee, Drinking Water Committee, Ecological Processes and Effects Committee, Environmental Economics Advisory Committee, Environmental Engineering Committee, Environmental Health Committee, Integrated Human Exposure Committee, Radiation Advisory Committee, and Research Strategies Advisory Committee. Additional information about the SAB can be obtained on the SAB Web site, www.epa.sab/gov, and from the Annual Report of the SAB Staff, http://www.epa.gov/sab/annreport01.pdf.

M/Cs can expect to attend 1-6 meetings per year, based upon the activity of the committee with which they serve. M/Cs generally serve as Special Government Employees (SGEs) (40 CFR part 3, subpart F or EPA Ethics Advisory 88-6 dated 7/6/88) and receive compensation, in addition to reimbursement at the Federal Government rate for travel and per diem expenses while serving on the SAB. SGEs are subject to certain ethical standards common to all Federal employees. In particular, prior to their appointment, SGEs are required to complete an information package, including a Confidential Financial Disclosure Report.

Appointments associated with this solicitation will begin no sooner than the fall of 2002. While it is too early to know for certain what types of expertise will be needed, it is likely that at least some of the new M/Cs will have expertise in the following areas:

Air quality monitoring

Exposure assessment

Environmental economics

Environmental engineering

Environmental modeling

Environmental microbiology

Environmental statistics

Health physics

Landscape ecology

Risk assessment

Toxicology—health and ecological

Uncertainty analysis

How To Apply

Any interested person or organization may nominate qualified persons to serve on the SAB. Nominees should be qualified by education, training, and experience to evaluate scientific, engineering and/or economics information on issues referred to and addressed by the Board. Successful candidates have distinguished themselves professionally and should be available to invest the time and effort to advance the cause of the supporting the use of good science through the efforts of the SAB.

Nominees should be identified by name, occupation, position, address, telephone number, fax number, email address, and SAB committee of primary interest. Nominations should include a current resume that addresses the nominee's background, experience, qualifications, and specific areas of expertise.

Information on the nominees will be entered into the SAB's data base for potential M/Cs which will be consulted, as appropriate, when vacancies arise and/or when special expertise is needed for particular SAB activities. This request for nominations does not imply any commitment by the Agency to select individuals to serve as a M/C to the SAB from the responses received.

FOR FURTHER INFORMATION: Nominations should be submitted (preferably in electronic format—WordPerfect or Word formats) to: Ms. Carolyn Osborne, Project Coordinator, EPA Science Advisory Board (1400A), 1200 Pennsylvania Avenue, NW., Washington, DC 20460, e-mail: osborne.carolyn@epa.gov Tel: (202) 564-4554 no later than Wednesday, April 30, 2002.

The Agency will not formally acknowledge or respond to nominations.

Dated: March 1, 2002.
Donald G. Barnes,
Staff Director, EPA Science Advisory Board.

[FR Doc. 02-5600 Filed 3-7-02; 8:45 am]

BILLING CODE 6560-50-P